DEPARTMENT OF THE INTERIOR

Fish and Wildlife Service

Notice of Availability of a Draft Revised Recovery Plan for the Oregon Silverspot Butterfly for Review and Comment

AGENCY: U.S. Fish and Wildlife Service, Interior.

ACTION: Notice of document availability.

SUMMARY: We, the Fish and Wildlife Service, announce the availability of a draft revised recovery plan for the Oregon silverspot butterfly (Speyeria zerene hippolyta) for public review. This butterfly is distributed in six small areas along the Pacific coast from northern California to southern Washington. The Oregon silverspot butterfly depends upon coastal grasslands that contain the larval host plant (early blue violet), nectar sources, and adult courtship areas. This draft revised plan updates the original recovery plan that was completed in 1982.

DATES: We must receive your comments on the draft revised recovery plan on or before June 16, 2000 for us to consider them in developing the final plan.

ADDRESSES: You may obtain a copy of the draft revised recovery plan by contacting the U.S. Fish and Wildlife Service, Oregon State Office, 2600 S.E. 98th Avenue, Suite 100, Portland, Oregon, 97266; phone (503) 231-6179. Send written comments or other materials on the plan to the State Supervisor at the above address. Comments and materials received are available on request for public inspection, by appointment, during normal business hours at the above address.

FOR FURTHER INFORMATION CONTACT: Rich Szlemp, Supervisory Fish and Wildlife Biologist, at the above address.

SUPPLEMENTARY INFORMATION:

Background

Restoring an endangered or threatened animal or plant to the point where it is again a secure, self-sustaining member of its ecosystem is a primary goal of our endangered species program. To help guide the recovery effort, we are working to prepare recovery plans for most of the listed species native to the United States. Recovery plans describe actions considered necessary to conserve the species, establish criteria for recognizing the recovery levels for downlisting or delisting them, and estimate time and cost for implementing the recovery measures needed.

The Endangered Species Act of 1973, as amended (Act) (16 U.S.C. 1531 et seq.) requires that recovery plans be developed for listed species unless such a plan would not promote the conservation of a particular species. Section 4(f) of the Act requires that during recovery plan development, we provide public notice and an opportunity for public review and comment. We will consider all information presented during a comment period before we approve a new or revised recovery plan. We and other Federal agencies will also take these comments into account in the course of implementing approved recovery plans.

The Oregon silverspot butterfly, which was listed as threatened with critical habitat in 1980, is a small, darkly marked coastal subspecies of the Zerene fritillary butterfly. This subspecies occurs in six small pockets of remaining habitat at: Del Norte/Lake Earl in California; Clatsop Plains, Mt. Hebo, Cascade Head, and Rock Creek-Big Creek in Oregon; and Long Beach in Washington. The Long Beach population may be extirpated and the population on the Clatsop Plains is extremely low and at risk of extirpation. A recovery plan was completed in 1982. At the time of listing, the only known viable population occurred in the Rock Creek-Big Creek area. The original recovery plan included recovery actions for the Rock Creek-Big Creek area as well as the rediscovered population of butterflies at Mt. Hebo. Since that time, additional Oregon silverspot populations have been discovered or rediscovered at Cascade Head, Bray Point, Clatsop Plains, and Del Norte.

The open vegetation preferred by the butterfly has always had a patchy distribution that was maintained through wildfire, salt-laden winds, grazing, and controlled burning. Habitat has declined due to residential and commercial development, invasion of exotic plant species, overgrazing, and lack of fire. Current threats to Oregon silverspot butterflies include continued habitat alteration, continued invasion of non-native plants, off-road vehicle use, and vegetation change due to fire suppression.

The draft revised recovery plan calls for restoring and protecting habitat for the Oregon silverspot butterfly to establish or maintain viable populations in six habitat conservation areas. Because Oregon silverspot butterfly populations have been extirpated and existing ones are still declining, the revised recovery plan also calls for augmenting existing populations with captive-reared individuals and reintroducing butterflies in areas where they have been extirpated. When the revised plan is completed, it will guide all Federal and State agencies whose actions affect the conservation of the Oregon silverspot butterfly.

Public Comments Solicited

We solicit written comments on this draft revised recovery plan. We are particularly interested in receiving any recent information regarding the occurrence, distribution, or number of butterflies that is not included in the draft revised plan. We are also particularly interested in information pertaining to specific criteria to be considered when proposing to augment or reintroduce Oregon silverspot butterflies. We will consider all comments received by the date specified above before approving the plan.

Authority

The authority for this action is section 4(f) of the Endangered Species Act, 16 U.S.C. 1533(f).

Dated: April 11, 2000.
Thomas Dwyer,
Regional Director, U.S. Fish and Wildlife Service, Region 1.

[FR Doc. 00-9459 Filed 4-14-00; 8:45 am]

BILLING CODE 4310-55-P